ENVIRONMENTAL PROTECTION AGENCY

[FRL-7650-9]

Science Advisory Board Staff Office; Request for Nominations for Additional Expertise on the Science Advisory Board's Ecological Processes and Effects Committee to Review a Model for Predicting Ecological Significance at the Landscape Scale

AGENCY: Environmental Protection Agency (EPA).

ACTION: Notice.

SUMMARY: The EPA Science Advisory Board (SAB) Staff Office is requesting nominations to add expertise to the SAB Ecological Processes and Effects Committee to review EPA's Critical Ecosystem Assessment Model (CrEAM). The CrEAM was developed to predict ecological significance at the landscape scale.

DATES: Nominations should be submitted by May 12, 2004 per the instructions below.

FOR FURTHER INFORMATION CONTACT: Any member of the public wishing further information regarding this Request for Nominations may contact Dr. Thomas Armitage, Designated Federal Officer (DFO), via telephone/voice mail at (202) 343-9995; via e-mail at armitage.thomas@epa.gov; or at the U.S. EPA Science Advisory Board (1400F), 1200 Pennsylvania Ave., NW., Washington, DC 20460. General information about the SAB can be found in the SAB Web site at http://www.epa.gov/sab.

SUPPLEMENTARY INFORMATION: Background: EPA Region V has requested that the SAB conduct a review of the CrEAM. The CrEAM is a spatially explicit model developed by EPA Region V for predicting the ecological significance of undeveloped land using ecological theory, existing data sets, and geographic information system (GIS) technology. The EPA Region V Critical Ecosystems Team developed the CrEAM to assess the ecological significance of land areas across the states of EPA Region V (Illinois, Indiana, Michigan, Minnesota, Ohio, and Wisconsin). The model may potentially be used to identify significant ecosystems in order to target protection and restoration efforts in EPA Region V. The CrEAM identifies ecologically significant areas by integrating three important conditions: (1) Ecosystem diversity, (2) ecological self sustainability, and (3) species and land cover rarity. A geographic information system was selected as the analysis platform for the CrEAM in order to aggregate multiple geographically referenced data sets and conduct landscape scale analysis. The National Land Cover Database (NLCD) was used as the base data layer in the model and twenty relevant data sets were used as indicators to predict the potential for ecosystem diversity, ecological self sustainability, and species and land cover rarity at a scale of 300m x 300m. This information can be used to prioritize ecologically significant areas in EPA Region V.

The Science Advisory Board is a chartered Federal advisory committee, which reports directly to the EPA Administrator. The panel being formed will provide advice to the Agency, as a part of the SAB's mission to provide independent scientific and technical advice, consultation, and recommendations to the EPA Administrator on the technical bases for EPA positions and regulations. The Panel will provide advice to the EPA through the chartered SAB. The Panel will comply with the provisions of the Federal Advisory Committee Act and all appropriate SAB procedural policies, including the SAB process for panel formation described in the Overview of the Panel Formation Process at the Environmental Protection Agency Science Advisory Board, which can be found on the SAB's Web site at: http://www.epa.gov/sab/pdf/ec0210.pdf. The Panel will hold a two-day meeting to review the CrEAM.

Tentative Charge to the Panel: EPA is seeking comment on the scientific validity of the conceptual framework and methodology used to identify ecologically significant ecosystems and on the scientific defensibility of the results generated from CrEAM queries. Specifically, EPA seeks advice from the panel on: (1) The appropriateness of the term “ecological significance” as defined in the CrEAM; (2) the scientific validity of the use the selected data sets and indicators to generate ratings of ecological significance; (3) the scientific validity of nesting and compositing of multiple indicator data sets to rate ecosystems; (4) relevant data sets consistently collected across the 6-state Region that should have been used but were not; and (5) the scientific and technical sufficiency of CrEAM queries for use in strategic planning and priority setting.

Request for Nominations: The SAB Staff Office is requesting nominations to add expertise to the Ecological Processes and Effects Committee to form an SAB panel to review the CrEAM. To supplement expertise on the Ecological Processes and Effects Committee, the SAB Staff Office is seeking individuals who have expertise in ecology and the use of geographic information system technology to evaluate data and conduct landscape scale analyses.

Process and Deadline for Submitting Nominations: Any interested person or organization may nominate individuals qualified in the areas of expertise described above to serve on the Subcommittee. Nominations should be submitted in electronic format through the Form for Nominating Individuals to Panels of the EPA Science Advisory Board provided on the SAB Web site, http://www.epa.gov/sab. The form can be accessed through a link on the blue navigational bar on the SAB Web site, http://www.epa.gov/sab. To be considered, all nominations must include the information required on that form.

Anyone who is unable to submit nominations using this form, and any questions concerning any aspects of the nomination process may contact the DFO, as indicated above in this notice. Nominations should be submitted in time to arrive no later than May 12, 2004. Any questions concerning either this process or any other aspects of this notice should be directed to the DFO.

The SAB will acknowledge receipt of the nomination and inform nominators of the panel selected. From the nominees identified by respondents to this Federal Register notice (termed the “Widecast”), SAB Staff will develop a smaller subset (known as the “Short List”) for more detailed consideration. Criteria used by the SAB Staff in developing this Short List are given at the end of the following paragraph. The Short List will be posted on the SAB Web site at: http://www.epa.gov/sab, and will include, for each candidate, the nominee's name and biosketch. Public comments on the Short List will be accepted for 21 calendar days. During this comment period, the public will be requested to provide information, analysis or other documentation on nominees that the SAB Staff should consider in evaluating candidates for the Panel.

For the SAB, a balanced review panel (i.e., committee, subcommittee, or panel) is characterized by inclusion of candidates who possess the necessary domains of knowledge, the relevant scientific perspectives (which, among other factors, can be influenced by work history and affiliation), and the collective breadth of experience to adequately address the charge. Public responses to the Short List candidates will be considered in the selection of the panel, along with information provided by candidates and information gathered by SAB Staff independently of the background of each candidate (e.g., financial disclosure information and computer searches to evaluate a nominee's prior involvement with the topic under review). Specific criteria to be used in evaluation of an individual subcommittee member include: (a) Scientific and/or technical expertise, knowledge, and experience (primary factors); (b) absence of financial conflicts of interest; (c) scientific credibility and impartiality; (d) availability and willingness to serve; and (e) ability to work constructively and effectively in committees.

Short List candidates will also be required to fill-out the “Confidential Financial Disclosure Form for Special Government Employees Serving on Federal Advisory Committees at the U.S. Environmental Protection Agency” (EPA Form 3110-48). This confidential form allows Government officials to determine whether there is a statutory conflict between that person's public responsibilities (which includes membership on an EPA Federal advisory committee) and private interests and activities, or the appearance of a lack of impartiality, as defined by Federal regulation. The form may be viewed and downloaded from the following URL address: http://www.epa.gov/sab/pdf/epaform3110-48.pdf.

In addition to reviewing background material, Panel members will be asked to attend one public face-to-face meeting over the anticipated course of the advisory activity.

Dated: April 15, 2004.
Vanessa T. Vu,
Director, EPA Science Advisory Board Staff Office.

[FR Doc. 04-9047 Filed 4-20-04; 8:45 am]

BILLING CODE 6560-50-P